DEPARTMENT OF TRANSPORTATION

Federal Transit Administration

[Docket Number: FTA-2006-25471]

Notice of Proposed Safety and Security Management Circular

AGENCY: Federal Transit Administration (FTA), DOT.

ACTION: Notice of proposed circular and request for comment.

SUMMARY: The Federal Transit Administration (FTA) proposes to issue a Circular on Safety and Security Management Guidance for FTA-funded major capital projects. The proposed circular is for those FTA-funded projects that involve: (1) The construction of a new fixed guideway or extension of an existing fixed guideway; (2) the rehabilitation or modernization of an existing fixed guideway with a total project cost in excess of $100 million; or (3) projects designated as major capital projects by the Administrator. The Circular, which is located on the DMS Web site, identifies the safety and security management activities to be performed by grantees and the criteria for documenting these activities in the Safety and Security Management Plan (SSMP). FTA is also developing a manual of effective practices to accompany the circular.

DATES: Comments must be received by December 11, 2006. Late filed comments will be considered to the extent practicable.

ADDRESSES: You may submit comments identified by the Document Management System (DMS) Docket Number FTA-2006-25471 by any of the following methods:

• Web site: http://dms.dot.gov. Follow the instructions for submitting comments on the DOT electronic docket site;

• Fax: 202-493-2251;

• Mail: Docket Management Facility; U.S. Department of Transportation, 400 Seventh Street, SW., Nassif Building, PL-401, Washington, DC 20590-0001; or

• Hand Delivery: Room PL-401 on the plaza level of the Nassif Building, 400 Seventh Street, SW., Washington, DC, between 9 a.m. and 5 p.m., Monday through Friday, except Federal holidays.

Instructions: You must include the agency name (Federal Transit Administration) and the Docket Number (FTA-2006-25471). You should submit two copies of your comments if you submit them by mail. If you wish to receive confirmation that FTA received your comments, you must include a self-addressed, stamped postcard. Note that all comments received will be posted without change to the Department's DMS Web site located at http://dms.dot.gov. This means that if your comment includes any personal identifying information, such information will be made available to users of DMS.

FOR FURTHER INFORMATION CONTACT: For issues regarding safety and security in FTA's project development phases, contact Carlos M. Garay, Office of Engineering, 400 Seventh Street, SW., Washington, DC, 20590, (202) 366-6471; or Carlos.Garay@dot.gov. For issues regarding specific safety and security management activities, contact Levern McElveen, Office of Safety and Security, 400 Seventh Street, SW., Washington, DC, 20590, (202) 366-1651; or Levern.McElveen@dot.gov. For legal issues, contact Bruce Walker, Office of Chief Counsel, Federal Transit Administration, 400 Seventh Street, SW., Room 9316, Washington, DC 20590, (202) 366-4011; or Bruce.Walker@dot.gov.

SUPPLEMENTARY INFORMATION:

Background

FTA's Full Funding Grant Agreement (FFGA) Circular 5200.1A, Chapter II, Section 6, Safety and Security Management Plan, issued on December 5, 2002, contains recommended guidance for grantees with FFGA projects. The guidance identifies specific safety and security management activities that must be performed and documented by the grantee in a Safety and Security Management Plan (SSMP) and submitted to FTA for review and conditional approval with application for FFGA.

Section 3026 of the Safe, Accountable, Flexible, Efficient Transportation Equity Act: A Legacy for Users (SAFETEA-LU), [Pub. L. 109-59, August 10, 2005] now requires “safety and security management” as an element of the Project Management Plan (PMP) to be submitted by grantees for major capital projects. FTA is in the process of developing a proposed rulemaking to fully implement this provision of SAFETEA-LU. In the interim, this proposed circular identifies specific safety and security management activities to be performed for all major capital projects, as defined in 49 CFR part 633. The circular also proposes guidance regarding how these activities may be documented in the SSMP, which would be submitted as part of the PMP.

I. What is FTA proposing for the SSMP?

For certain major capital projects, commonly referred to as “New Starts,” that involve the construction or extension of rail transit, commuter rail, or certain bus service in dedicated lanes, FTA is proposing that the initial version of the SSMP will be submitted with the grantee's request to enter Preliminary Engineering. As part of the PMP, the SSMP will be updated regularly, and evaluated for conditional approval by FTA prior to entry into subsequent project development phases. For other major capital projects, including modernization of existing fixed guideway systems and the purchase of bus and bus-related equipment and facilities, FTA proposes that the SSMP be submitted and updated whenever the PMP is required.

The proposed circular also includes a description of each section to be included in the SSMP and a listing of the evaluation criteria FTA proposes to use in assessing the grantee's development and implementation of the SSMP.

The SSMP will document the grantee's approach to developing management structures and work programs to effectively plan and implement safety and security related elements of major capital projects. The SSMP should also explain how the grantee expects to manage required coordination with external agencies, including the State Safety Oversight Agency (SSOA)—for rail transit projects affected by 49 CFR Part 659, Rail Fixed Guideway Systems; State Safety Oversight; the Federal Railroad Administration (FRA)—for commuter rail projects and rail transit projects with shared use track, limited connections to the general railroad system, and common corridors; and the Transportation Security Administration (TSA)—for projects affected by Security Directives and other TSA requirements and programs.

The proposed circular references other FTA regulations, including 49 CFR Part 633, Project Management Oversight; 49 CFR Part 611, Major Capital Investment Projects; and 49 CFR Part 659, Rail Fixed Guideway Systems; State Safety Oversight. In all cases, when using the proposed circular, the most current regulation will supersede any references to rules that have been cancelled or revised. FTA reserves the right to make page changes to proposed and final circulars regarding updates to other provisions, without subjecting the entire circular to public comment. The Circular can be found on the DMS Web site: http://dms.dot.gov. Please refer to docket number FTA-2006-25471.

II. Why Is FTA Developing the Circular?

This proposed circular is the initial step in providing guidance in meeting the criteria of section 3026 of SAFETEA-LU which amends 49 U.S.C. 5327(a) to require “safety and security management” as an element of the PMP. Historically, grantees for FTA-funded major capital projects have described project safety and security management strategies and controls as sub-elements of other required PMP sections. However, the level to which safety and security were addressed and the specific approaches to ensure safety and security during each phase of project development varied greatly among grantees. As such, it became increasingly difficult for FTA to ensure a consistent approach to safety and security in each major capital project. Likewise, since the publication of Circular 5200.1A in December 2002, grantees have indicated that they do not have sufficient guidance for the consistent implementation of safety and security management activities, nor do they have a clear understanding of the criteria FTA used to evaluate implementation of safety and security activities.

The proposed circular describes specific safety and security activities to be identified and performed for each major capital project, and how these activities should be documented in the SSMP. FTA will then assess the development and implementation of the SSMP as part of the PMP. By describing these activities, the proposed circular will provide guidance for strengthening safety and security management in major capital projects.

III. What Factors Guided FTA's Development of the Circular?

A. Results From Previous Experience With SSMPs for FFGA Projects.

FTA reviewed SSMP submissions made for FFGA projects since December 2002. FTA also evaluated the results of in-depth assessments performed by project management oversight consultants (PMOCs) regarding SSMP development and implementation by grantees with FFGA projects.

FTA found that previously developed SSMPs did not clearly explain the project's organization responsible for managing safety and security. In many instances, staff and contractors assigned to the organization were not identified by name, title, and department. Committees established to support the organization were not clearly identified by name and acronym, and membership was not always listed by title and affiliation. For specific authorities delegated to contractors, grantee staff members or committees were not always clearly identified as responsible for oversight. Organization charts were not always provided, and budgets and schedules were not always developed for safety and security activities.

FTA also determined that by not specifically encouraging the referencing of other safety and security plans and procedures, grantees copied large amounts of text from these other plans into their SSMPs. The resulting documents were much more voluminous than necessary and, in some instances, were difficult to follow and implement. In some cases, it was hard to distinguish the specific activities being performed as part of the SSMP from the grantee's other safety and security programs.

Finally, FTA found that grantees did not always clearly address how the project's existing design and construction verification programs should be used to support safety and security management. For example, grantees did not always explain how their safety and security functions were working with their quality control/quality assurance functions to obtain verification that safety and security requirements established for their projects were, in fact, addressed in technical specifications and contract documents and in the as-built facilities, installed systems, and procured equipment delivered for their projects.

In another example, grantees did not always explain how the project's activation team was coordinating with the safety and security function to make sure that staffing plans, established qualifications and certifications, training programs, and demonstration activities were sufficient to ensure the readiness of operations and maintenance personnel to support revenue service. In several instances, FTA had difficulty determining how the grantee's safety and security functions were using the project's document control system to ensure the tracking and resolution of “open items” and “work-arounds” that could potentially impact safety and security.

B. New Industry Guidance

FTA also considered new guidance developed for industry since the publication of Circular 5200.1A in December 2002. Specifically, FTA has published a number of documents with recommendations to grantees for addressing safety and security in major capital projects, including: Handbook for Transit Safety and Security Certification (2002); Project Construction and Management Guidelines Update (2003); Public Transportation System Security and Emergency Preparedness Planning Guide (2003); FTA's Top 20 Security Action Items Web site (2003); and Transit Security Design Considerations (2005).

In partnership with the Transit Cooperative Research Program (TCRP) of the Transportation Research Board (TRB), FTA has also funded research that identifies and recommends activities to be performed by grantees to address safety and security in the engineering, design, construction, and operation of transit projects. For example, FTA is currently funding: Project J-10G, Making Transportation Tunnels Safe and Secure; Project A-30, Improving Safety Where Light Rail, Pedestrians, and Vehicles Intersect; Project D-10, Audible Signals for Pedestrian Safety in Light Rail Transit Environments; and Project D-11, Design, Operation, and Safety of At-Grade Crossings of Exclusive Busways. These projects build on previous FTA-funded research for TCRP Report 17: Integration of Light Rail Transit into City Streets (1996); TCRP Report 69: Light Rail Service: Pedestrian and Vehicular Safety (2000); TCRP Research Results Digest 51, Second Train Coming Warning Sign: Demonstration Projects (2002); and TCRP Report 86, Volume 4: Public Transportation Security: Intrusion Detection for Public Transportation Facilities Handbook (2003).

Also, since the publication of the 5200.1A Circular, the American Public Transportation Association (APTA) has completed its Rail Transit Standards Program, issuing over 90 standards to support the design, operation and maintenance of rail transit projects. The Federal Highway Administration (FHWA) updated Part 10 of the Manual on Uniform Traffic Control Devices (MUTCD) in 2003, which relates to the design of rail transit grade crossings. Operation Lifesaver, in partnership with FTA and FRA, has developed program materials for use by rail transit grantees regarding public marketing, education, and communications efforts for rail grade crossings.

C. Federal Security Requirements

Finally, as a result of the events of September 11, 2001, many grantees are now performing extensive vulnerability analyses as part of their major capital projects, following guidance issued by FTA, TSA, or the Department of Homeland Security (DHS) Office of Grants and Training (G&T). Grantees are also designing and specifying the use of security equipment, such as closed circuit television surveillance systems, passenger call boxes, enhanced lighting, access control systems, and intrusion detection systems, following guidance established by consensus-based standards organizations.

Additionally, in 2004, DOT and TSA issued a joint rule-making “Protection of Sensitive Security Information,” published at 49 CFR Part 15 and 49 CFR Part 1520, respectively. DOT published “Interim Policies and Procedures for 49 CFR Part 15, Protection of Sensitive Security Information” on June 7, 2005 (a copy is available with this docket). The DOT policy and procedures apply to all DOT employees and to all DOT contractors, grantees, consultants, licensees, and regulated entities that have access to or receive Sensitive Security Information (SSI). Procedures have been established by grantees for managing SSI materials and to guide the sharing of SSI with FTA and other external agencies. FTA also has established procedures for working with grantees regarding the handling of these materials by Regional Offices, Headquarters staff, and PMOCs. Specifically, FTA personnel and PMOCs must comply with the grantee's SSI procedures as established in accordance with 49 CFR Part 15. Depending on the materials being reviewed and the procedures established by grantees, activities may include performing on-site reviews of SSI materials at the grantee's location, not removing SSI materials from specific locations, and ensuring that a grantee escort is available to observe FTA/PMOC review of SSI materials.

IV. What Specific Safety and Security Management Activities Are Required?

To address concerns identified from previous experience with developing and implementing SSMPs, and to reflect changes in available guidance and industry practices, the proposed circular identifies specific safety and security management activities to be performed by grantees for major capital projects. These activities include preparation of a policy statement, signed by the grantee's executive leadership, endorsing the safety and security activities, as documented in the SSMP. The proposed activities also include the development of a well-defined organization, supported by a budget and schedule, for identifying, resolving, and managing safety and security activities during all development phases of the major capital project.

Further, these proposed activities include specific requirements regarding the conduct of safety and security analysis, the development of safety and security design criteria, the establishment of programs to ensure the training and qualification of operations and maintenance personnel prior to the initiation of revenue service, and the establishment of verification programs to ensure that safety and security design criteria are included in the technical specifications and contract documents for the project and delivered in the final project placed into revenue service.

Finally, the proposed activities ensure the issuance of final safety and security certification for the project, including its operational readiness, and the performance of appropriate coordination throughout the project to address requirements specified by local, State and Federal agencies, including applicable requirements from SSOAs, FRA, and TSA.

V. How Are Safety and Security Activities Documented in the SSMP?

To support consistent development of SSMPs by grantees for major capital projects, Chapter IV of the proposed circular identifies 11 sections required for the SSMP. Each section provides a detailed description of what should be included in the SSMP. The proposed circular, when published in final form will reference a manual being developed by FTA to promote effective practices for safety and security management. This manual will provide examples that may be used by grantees in preparing SSMPs.

VI. Request for Comments

FTA is establishing a docket to receive public comment on the proposed circular. FTA will publish the final circular, which may be revised based on public comment, in a later Federal Register notice.

In reviewing the proposed circular, FTA is requesting comments on the following:

1. Required Safety and Security Management Activities

The proposed circular identifies specific safety and security management activities to be performed by grantees for major capital projects. These activities are noted in Chapter II, Section 2, of the proposed SSMP Circular. FTA is interested to learn of opinions regarding these proposed activities and their relevance to ensuring the safety and security of major capital projects.

Specifically, FTA would like to know if all of the required activities are necessary; if there are activities which should be added; and if grantees currently have programs underway addressing these requirements. Also, for “New Starts” projects requesting entry into Preliminary Engineering (PE), FTA is interested to learn what specific safety and security management activities grantees will perform during PE.

2. Listing of FTA Evaluation Criteria

The proposed circular identifies the criteria to be used by FTA in assessing and evaluating the grantee's performance of required safety and security management activities. These activities are noted in Chapter II, Section 3, of the proposed SSMP Circular. FTA would like to learn if commenters believe that these criteria are appropriate; if there are other criteria that should be considered by FTA, and if grantees believe that they have the project management organization and information management systems in place to meet these criteria.

3. Sensitive Security Information

The proposed circular references the DOT regulation on Sensitive Security Information (see 49 CFR Part 15). FTA has developed procedures to coordinate with grantees regarding their implementation of programs and procedures to identify and protect sensitive security information. FTA is interested in receiving comments regarding how well these procedures have worked in practice, and if there are any suggestions for improvements that should be addressed in the proposed circular.

4. Process for Developing and Updating SSMPs

FTA is seeking comments on the proposed approach to developing and updating SSMPs as part of the PMP. These criteria are found in Chapter III of the proposed circular. Specifically, do grantees require additional guidance regarding the appropriate contents of the SSMP for different project development phases? Do grantees prefer to include the SSMP as a separate chapter of the PMP or referenced as a separate plan within the PMP? Do grantees with “New Starts” projects believe the proposed circular provides enough information regarding FTA's requirements for the SSMP at entry to Preliminary Engineering, entry to Final Design, application for FFGA, and at other times when circumstances require?

5. Required SSMP Contents

Chapter IV of the proposed circular lists eleven sections to be included in the SSMP developed by the grantee. FTA requests comments regarding these eleven sections. Are the requirements reasonable? Should additional sections or sub-sections be added? Should specific sections or sub-sections be removed? Are the descriptions for any section or sub-section unclear or confusing? Do grantees need additional guidance?

6. Other Comments

FTA also requests comments concerning the costs and benefits associated with meeting guidance in the proposed circular. Grantees are encouraged to comment on the number of hours and/or financial cost associated with implementing the proposed circular's guidance as well as the extent to which following the guidance will assist the grantee in achieving its organizational objectives for safety and security management in major capital projects.

Issued in Washington, DC, this 3rd of October 2006.
James S. Simpson,
Administrator, Federal Transit Administration.

[FR Doc. E6-16684 Filed 10-10-06; 8:45 am]

BILLING CODE 4910-57-P